DEPARTMENT OF EDUCATION

[Docket No.: ED-2023-SCC-0077]

Agency Information Collection Activities; Comment Request; Program for International Student Assessment 2025 (PISA 2025) Main Study Recruitment and Field Test

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before July 7, 2023.

ADDRESSES: To access and review all the documents related to the information collection listed in this notice, please use http://www.regulations.gov by searching the Docket ID number ED-2023-SCC-0077. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-8240.

FOR FURTHER INFORMATION CONTACT: For specific questions related to collection activities, please contact Carrie Clarady, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for International Student Assessment 2025 (PISA 2025) Main Study Recruitment and Field Test.

OMB Control Number: 1850-0755.

Type of Review: A revision of a currently approved ICR.

Respondents/Affected Public: Individuals and Households.

Total Estimated Number of Annual Responses: 58,672.

Total Estimated Number of Annual Burden Hours: 18,909.

Abstract: The Program for International Student Assessments (PISA) is an international assessment of 15-year-olds, which focuses on assessing students' reading, mathematics, and science literacy. PISA was first administered in 2000 and is typically conducted every three years. The United States has participated in all of the previous cycles and planned to participate in 2021 in order to track trends and to compare the performance of U.S. students with that of students in other education systems. PISA is sponsored by the Organization for Economic Cooperation and Development (OECD). In the United States, PISA is conducted by the National Center for Education Statistics (NCES), within the U.S. Department of Education.

In each administration of PISA, one of the subject areas (reading, mathematics, or science literacy) is the major domain and has the broadest content coverage, while the other two subjects are the minor domains. PISA emphasizes functional skills that students have acquired as they near the end of mandatory schooling (aged 15 years), and students' knowledge and skills gained both in and out of school environments. Other areas may also be assessed, such as, in the case of PISA 2025, Learning in a Digital World (LDW), which will be an innovative domain in 2025. PISA assesses students' knowledge and skills gained both in and out of school environments. In addition to the cognitive assessments described above, PISA 2025 will include questionnaires administered to school principals and assessed students. To prepare for the main study, PISA countries will conduct a field test in the spring of the year previous, primarily to evaluate newly developed assessment and questionnaire items but also to test the assessment operations.

This request is to conduct PISA 2025 main study recruitment and the PISA 2025 field test. This submission requests all burden for both the field test (scheduled for early 2024) and the main study (scheduled for late 2025), and presents materials (including recruitment and communications materials) and the final international drafts of the field test instruments. As part of this submission, NCES is publishing a notice in the Federal Register allowing first a 60- and then a 30-day public comment period. We anticipate that some materials will be revised after the 60-day public comment period and encourage stakeholders to see individual documents for details. The materials that will be used in the 2025 main study will be based upon the field test materials included in this submission. Additionally, this submission is designed to adequately justify the need for and overall practical utility of the full study and to present the overarching plan for all of the phases of the data collection, providing as much detail about the measures to be used as is available at the time of this submission.

We plan to submit a revision (along with a 30-day public comment period) in October 2023 in order to clear the final US version of the field test instrument, as well as finalize any updated materials for use in the 2024 field test. In order to begin recruiting schools for the main study by October 2024, we will submit a change-request to OMB in May 2024 with the final main study recruitment materials and parental consent letters, details about any changes to the design and procedures for the main study, and updates to the respondent burden estimates for the main study data collection. Subsequently in spring 2025 we will submit a clearance request, with a 30-day public comment period notice published in the Federal Register, with the final main study procedures and instruments for data collection in the fall of 2025.

Dated: May 2, 2023.
Stephanie Valentine,
PRA Coordinator, Strategic Collections and Clearance, Governance and Strategy Division, Office of Chief Data Officer, Office of Planning, Evaluation and Policy Development.

[FR Doc. 2023-09650 Filed 5-5-23; 8:45 am]

BILLING CODE 4000-01-P